DEPARTMENT OF TRANSPORTATION

Office of the Secretary

Notice of Applications for Certificates of Public Convenience and Necessity and Foreign Air Carrier Permits Filed Under Subpart B (Formerly Subpart Q) During the Week Ending December 27, 2002

The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the Answer period, DOT may process the application by expedited procedures. Such procedures may consist of the adoption of a show-cause order, a tentative order, or in appropriate cases a final order without further proceedings.

Docket Number: OST-2002-14145.

Date Filed: December 23, 2002.

Due Date for Answers, Conforming Applications, or Motion to Modify Scope: January 13, 2003.

Description: Application of Mid-Atlantic Freight, Inc., pursuant to 49 U.S.C. Section 41738 and Subpart B, requesting authority to operate scheduled passenger service as a commuter air carrier between Norfolk, VA, Pine Island, NC and Manteo, NC, with flights beginning and ending in Manteo, NC.

Dorothy Y. Beard,
Federal Register Liaison.

[FR Doc. 03-689 Filed 1-13-03; 8:45 am]

BILLING CODE 4910-62-P